DEPARTMENT OF ENERGY

Notice of Availability of Solicitation

AGENCY: Idaho Operations Office, Department of Energy.

ACTION: Notice of availability of solicitation—biobased products industry.

SUMMARY: The U.S. Department of Energy (DOE), Idaho Operations Office (ID), on behalf of the Office of Industrial Technologies, is seeking applications from private and public institutions of higher learning to promote multidisciplinary education and training programs for graduate students at the Masters or Ph.D. levels in the area of renewable bioproducts. The emerging biobased products industry uses crops, trees, wastes and by-products to make chemical feedstocks and a huge range of everyday consumer goods, like plastics, paints and adhesives. Contributions to this new industry would come from traditional academic programs in crop production, such as agronomy, crop and soil sciences and forestry; programs in environmental sciences, such as ecology, and water and timber management; basic science programs, such as genomics, biology and microbiology; and, programs in industrial production technologies, such as fermentation design, fluid mechanics and systems management. The objective of this new education initiative is to produce graduates who can enter the complex biobased products industry and effectively integrate the knowledge from a wide range of technologies that are necessary for this industry to grow.

DATES: The deadline for receipt of applications is 3 p.m. MDT June 20, 2000.

ADDRESSES: Applications should be submitted to: Procurement Services Division, U. S. Department of Energy, Idaho Operations Office, Attention: Marshall Garr [DE-PS07-00ID13962], 850 Energy Drive, MS 1221, Idaho Falls, Idaho 83401-1563.

FOR FURTHER INFORMATION CONTACT: Marshall Garr, Contract Specialist, at garrmc@id.doe.gov, telephone (208) 526-1536.

SUPPLEMENTARY INFORMATION: The statutory authority for this program is the Federal Non-Nuclear Energy Research & Development Act of 1974 (Pub. L. 93-577). DOE anticipates approximately 3-5 grant awards will be made, ranging from approximately $70,000 to $100,000 each year for a maximum of three years in duration. These grants will cover both the costs for establishing a new cross-cutting academic and research program in this field as well as full stipends for 2 or so deserving graduate students at the Masters or Ph.D. level. The issuance date of Solicitation No. DE-PS07-00ID13962 will be May 5, 2000. The solicitation will be available in full text via the Internet at the following address: http://www.id.doe.gov/doeid/psd/proc-div.html. Technical and non-technical questions should be submitted in writing to Marshall Garr by e-mail garrmc@id.doe.gov, or facsimile at 208-526-5548 no later than May 19, 2000.

Issued in Idaho Falls on May 4, 2000.
R. Jeffrey Hoyles,
Director, Procurement Services Division

[FR Doc. 00-11867 Filed 5-10-00; 8:45 am]

BILLING CODE 6450-01-P